DEPARTMENT OF EDUCATION

Notice of Proposed Information Collection Requests

AGENCY: Department of Education.

ACTION: Notice of proposed information collection requests.

SUMMARY: The Acting Leader, Regulatory Information Management Group, Office of the Chief Information Officer, invites comments on the proposed information collection requests as required by the Paperwork Reduction Act of 1995.

DATES: An emergency review has been requested in accordance with the Act (44 U.S.C. chapter 3507(j)), since public harm is reasonably likely to result if normal clearance procedures are followed. Approval by the Office of Management and Budget (OMB) has been requested by April 13, 2004. A regular clearance process is also beginning. Interested persons are invited to submit comments on or before June 14, 2004.

ADDRESSES: Written comments regarding the emergency review should be addressed to the Office of Information and Regulatory Affairs, Attention: ED Desk Officer: Department of Education, Office of Management and Budget; 725 17th Street, NW., Room 10235, New Executive Office Building, Washington, DC 20503 or faxed to (202) 395-6974.

SUPPLEMENTARY INFORMATION: Section 3506 of the Paperwork Reduction Act of 1995 (44 U.S.C. chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Acting Leader, Regulatory Information Management Group, Office of the Chief Information Officer, publishes this notice containing proposed information collection requests at the beginning of the Departmental review of the information collection. Each proposed information collection, grouped by office, contains the following: (1) Type of review requested, e.g., new, revision, extension, existing or reinstatement; (2) title; (3) summary of the collection; (4) description of the need for, and proposed use of, the information; (5) respondents and frequency of collection; and (6) reporting and/or recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: April 9, 2004.
Jeanne Van Vlandren,
Acting Leader, Regulatory Information Management Group, Office of the Chief Information Officer.

Office of Innovation and Improvements

Type of Review: Revision.

Title: DC School Choice Incentive Program.

Abstract: This Program provides low-income parents that reside in DC with expanded options for acquiring a high quality education for their children. To be eligible for scholarships, participating students are DC residents and their household income does not exceed 185% of the poverty line.

Additional Information: This request for an emergency clearance is to collect time critical information from parents who are interested in participating in the vitally important new initiative, the DC School Choice Incentive Program. This Program will give low-income parents in the District of Columbia more options for the education of their children and will provide the Nation with a unique opportunity to test and evaluate the impact of enhanced education choices. The statute calls for the Secretary of Education to carry out the Program in cooperation with the Mayor of the District of Columbia. Because the Program was just enacted in late January, the Department of Education conducted an expedited application process that awarded a grant in late March to the Washington Scholarship Fund, an organization that will actually administer the scholarship program. The grantee must immediately distribute scholarship applications to interested parents, collect preliminary information for the required evaluation, and design and conduct a lottery that will select the scholarship recipients—all before June. Because of the urgency of distributing this scholarship form and collecting information from interested participants, we are requesting emergency clearance by April 13, 2004.

Frequency: Annually.

Affected Public: Individuals or household.

Reporting and Recordkeeping Hour Burden:

Responses: 3,000.

Burden Hours: 1,000.

Requests for copies of the proposed information collection request may be accessed from http://edicsweb.ed.gov, by selecting the “Browse Pending Collections” link and by clicking on link number 2468. When you access the information collection, click on “Download Attachments” to view. Written requests for information should be addressed to Vivian Reese, Department of Education, 400 Maryland Avenue, SW., Room 4050, Regional Office Building 3, Washington, DC 20202-4651 or to the e-mail address vivan.reese@ed.gov. Requests may also be electronically mailed to the Internet address OCIO_RIMG@ed.gov or faxed to 202-708-9346. Please specify the complete title of the information collection when making your request.

Comments regarding burden and/or the collection activity requirements, contact Kathy Axt at her e-mail address Kathy.Axt@ed.gov. Individuals who use a telecommunications device for the deaf (TDD) may call the Federal Information Relay Service (FIRS) at 1-800-877-8339.

[FR Doc. 04-8455 Filed 4-13-04; 8:45 am]

BILLING CODE 4000-01-P